DEPARTMENT OF DEFENSE

Office of the Secretary

Meeting of the Uniform Formulary Beneficiary Advisory Panel

AGENCY: Assistant Secretary of Defense (Health Affairs), Department of Defense.

ACTION: Notice of meeting.

SUMMARY: Under the provisions of the Federal Advisory Committee Act of 1972 (5 U.S.C., Appendix, as amended) and the Sunshine in the Government Act of 1976 (U.S.C. 522b, as amended) the Department of Defense announces the following Federal Advisory Committee Meeting.

Name of Committee: Uniform Formulary Beneficiary Advisory Panel (hereafter referred to as the Panel).

Date of Meeting: Thursday, January 10, 2008.

Location: Naval Heritage Center Theater, 701 Pennsylvania Avenue NW., Washington, DC 20004.

Time: 8 a.m. to 4 p.m.

Purpose of Meeting: The Panel will review and comment on recommendations made to the Director, TRICARE Management Activity, by the Pharmacy and Therapeutics (P&T) Committee regarding the Uniform Formulary.

Meeting Agenda: Sign-In; Welcome and Opening Remarks; Opportunity for Public Citizen Comments; Scheduled Therapeutic Class Reviews—Targeted Immunomodulatory Biologics (TIBs), BPH Alpha Blockers (BPH-ABs), Adrenergic Blocking Agents (ABAs) and Designated Newly Approved Drugs; Panel Discussions and Vote, and comments following each therapeutic class review.

Meeting Accessibility: Pursuant to 5 U.S.C. 552b, as amended, and 41 CFR 102-3.140 through 102-3.165, and the availability of space this meeting is open to the public. Seating is limited and will be provided only to the first 220 people signing in. All persons must sign in legibly.

Written Statements: Pursuant to 41 CFR 102-3.105(j) and 102.3.140, the public or interested organizations may submit written statements to the membership of the Panel at any time or in response to the stated agenda of a planned meeting. Written statements should be submitted to the Panel's Designated Federal Officer. The Designated Federal Officer's contact information can be obtained from the GSA's FACA Database— http://www.fido.gov/facadatabase/public.asp.

Written statements that do not pertain to the scheduled meeting of the Panel may be submitted at any time. However, if individual comments pertain to a specific topic being discused at a planned meeting then these statements must be submitted no later than five (5) business days prior to the meeting in question. The Designated Federal Officer will review all submitted written statements and provide copies to all the committee members.

Public Comments: In addition to written statements, the Panel will set will set aside one (1) hour for individual or interested groups to address the Panel. To ensure consideration of their comments, individuals and interested groups should submit written statements as outlined in this notice. Additionally, they will be afforded the opportunity to address the Panel. Registration for addressing the Panel in on a first-come, first-serve basis. Those wishing to address the Panel will be given no more than five (5) minutes to present their comments, and at the end of the one (1) hour time period no further public comments will be accepted.

FOR FURTHER INFORMATION CONTACT: Major Travis Watson, Designated Federal Officer, Uniform Formulary Beneficiary Advisory Panel, Skyline 5, Suite 810-5111 Leesburg Pike, Falls Church, Virginia 22041-3206, Telephone: (703) 681-2890—Fax: (703) 681-1940, E-mail Address: baprequests@tma.osd.mil.

Dated: October 26, 2007.
L.M. Bynum,
Alternate OSD Federal Register Liaison Officer.

[FR Doc. 07-5456 Filed 11-1-07; 8:45 am]

BILLING CODE 5001-06-M